DEPARTMENT OF TRANSPORTATION

Federal Aviation Administration

14 CFR Part 39

[Docket No. FAA-2005-22055; Directorate Identifier 2005-NE-31-AD]

RIN 2120-AA64

Airworthiness Directives; General Electric Company Model CF6-80C2D1F Turbofan Engines

AGENCY: Federal Aviation Administration (FAA), Department of Transportation (DOT).

ACTION: Notice of proposed rulemaking (NPRM).

SUMMARY: The FAA proposes to adopt a new airworthiness directive (AD) for General Electric Company Model CF6-80C2D1F turbofan engines. This proposed AD would require modifying the latching system of the fan reverser. This proposed AD results from 13 reports of released thrust reverser hardware. We are proposing this AD to prevent release of the thrust reverser cascade on landing, which could result in runway debris and a possible hazard to other aircraft.

DATES: We must receive any comments on this proposed AD by November 23, 2005.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

You can get the service information identified in this proposed AD from Middle River Aircraft Systems, Mail Point 46, 103 Chesapeake Park Plaza, Baltimore, MD, 21220-4295, telephone: (410) 682-0094; fax: (410) 682-0100.

You may examine the comments on this proposed AD in the AD docket on the Internet at http://dms.dot.gov.

FOR FURTHER INFORMATION CONTACT: James Lawrence, Aerospace Engineer, Engine Certification Office, FAA, Engine & Propeller Directorate, 12 New England Executive Park, Burlington, MA 01803-5299; telephone (781) 238-7176; fax (781) 238-7199.

SUPPLEMENTARY INFORMATION:

Comments Invited

We invite you to send us any written relevant data, views, or arguments regarding this proposal. Send your comments to an address listed under ADDRESSES. Include “Docket No. FAA-2005-22055; Directorate Identifier 2005-NE-31-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DOT docket Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and, any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the Docket Management Facility receives them.

Discussion

The FAA has received 13 reports of thrust reverser hardware released on landing. The first event occurred in January 1997. With the existing design for the forward lower latch, an operator can inadvertently close a fan reverser half with the lower latch handle in the closed position. When this happens, the barrel nut of the lower latch assembly can ride over the clevis, mounted on the engine fan case, without engaging the clevis. When it is in this position, the lower latch assembly appears engaged when it isn't. Because the barrel nut assembly of the lower latch might be spring-loaded against the engine fan case, the fan cowl door can close without engaging the lower latch assembly. All of the incidents occurred on CF6-80C2D1F engines installed on McDonnell Douglas MD-11 airplanes. Investigations show the design of those applications contributes to the failures of the fan reversers. The Middle Rivers Aircraft Systems (MRAS) (a subsidiary of the General Electric Company) issued four service bulletins to address the problem. However, several operators of McDonnell Douglas MD-11 airplanes haven't incorporated the recommendations of those service bulletins. As a result, three incidents occurred from March 2004 through October 2004. This condition, if not corrected, could result in release of the thrust reverser cascade on landing, which could result in runway debris and a possible hazard to other aircraft.

Relevant Service Information

We have reviewed and approved the technical contents of the following MRAS service bulletins (SBs):

• CF6-80C2 S/B 78-1068, Revision 2, dated May 16, 2005, and CF6-80C2 S/B 78-1077, Revision 1, dated May 16, 2005, that describe procedures for modifying the latching system of the fan reverser.

• SB CF6-80C2 S/B 78-1078, Revision 1, dated May 16, 2005, that describe procedures for replacing the existing L-shaped brackets or the upper and lower ends of the upper latch operating cable.

• SB CF6-80C2 S/B 78-1088, Revision 5, dated May 16, 2005, that describe procedures for installing the new improved fan reverser upper latch.

Differences Between the Proposed AD and the Manufacturer's Service Information

Middle River Aircraft Systems SB's CF6-80C2 S/B 78-1068, Revision 2, dated May 16, 2005; CF6-80C2 S/B 78-1077, Revision 1, dated May 16, 2005; and CF6-80C2 S/B 78-1078, Revision 1, dated May 16, 2005; apply to CF6-80C2 series engines. This proposed AD applies to the CF6-80C2D1F engine installed on the McDonnell Douglas MD-11 airplanes only.

FAA's Determination and Requirements of the Proposed AD

We have evaluated all pertinent information and identified an unsafe condition that is likely to exist or develop on other products of this same type design. We are proposing this AD, which would require:

• Modifying the latching system of the fan reverser at the next normally scheduled maintenance period, or within 1,200 flight hours time-in-service (TIS) after the effective date of the proposed AD, whichever occurs first; and

• Replacing the existing L-shaped support brackets of the upper and lower ends of the upper latch operating cable at the next normally scheduled maintenance period, or within 6,000 flight hours TIS after the effective date of the proposed AD, whichever occurs first; and

• Installing the new improved fan reverser upper latch at the next normally scheduled maintenance period, or within 6,000 flight hours TIS after the effective date of the proposed AD, whichever occurs first.

The proposed AD would require you to use the service information described previously to perform these actions.

Costs of Compliance

There are about 339 General Electric Company CF6-80C2D1F2 turbofan engines of the affected design in the worldwide fleet. We estimate that this proposed AD would affect 138 engines installed on airplanes of U.S. registry. We also estimate that it would take approximately 19 work hours per engine to perform the proposed actions, and that the average labor rate is $65 per work hour. Required parts would cost approximately $6,644 per engine. Based on these figures, we estimate the total cost of the proposed AD to U.S. operators to be $1,087,302.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

General Electric Corporation: Docket No. FAA-2005-22055; Directorate Identifier 2005-NE-31-AD.

Comments Due Date

(a) The Federal Aviation Administration (FAA) must receive comments on this airworthiness directive (AD) action by November 23, 2005.

Affected ADs

(b) None.

Applicability

(c) This AD applies to General Electric Company Model CF6-80C2D1F turbofan engines. These engines are installed on, but not limited to, McDonnell Douglas Corporation MD-11 airplanes.

Unsafe Condition

(d) This AD results from 13 reports of released thrust reverser hardware. We are issuing this AD to prevent release of the thrust reverser cascade on landing, which could result in runway debris and a possible hazard to other aircraft.

Compliance

(e) You are responsible for having the actions required by this AD performed within the compliance times specified unless the actions have already been done.

Modifying the Latching System of the Fan Reverser

(f) At the next normally scheduled maintenance period or within 1,200 flight hours time-in-service (TIS) after the effective date of this AD, whichever occurs first, modify the latching system of the fan reverser. Use the Accomplishment Instructions of Middle River Aircraft Systems (MRAS) service bulletins (SBs) CF6-80C2 S/B 78-1068, Revision 2, or CF6-80C2 S/B 78-1077, Revision 1, both dated May 16, 2005 to modify the latch assembly.

Replacing the L-Shaped Support Brackets

(g) At the next normally scheduled maintenance period or within 6,000 flight hours TIS after the effective date of this AD, whichever occurs first, replace the existing L-shaped support brackets of the upper and lower ends of the upper latch operating cable with improved T-shaped support brackets. Use the Accomplishment Instructions of MRAS SB CF6-80C2 S/B 78-1078, Revision 1, dated May 16, 2005 to replace the support brackets.

Installing the Improved Upper Latch of the Fan Reverser

(h) At the next normally scheduled maintenance period or within 6,000 flight hours TIS after the effective date of this AD, whichever occurs first, install the improved upper latch of the fan reverser. Use the Accomplishment Instructions of MRAS SB CF6-80C2 S/B 78-1088, Revision 5, dated May 16, 2005 to install the upper latch.

Alternative Methods of Compliance

(i) The Manager, Engine Certification Office, has the authority to approve alternative methods of compliance for this AD if requested using the procedures found in 14 CFR 39.19.

Related Information

(j) None.

Issued in Burlington, Massachusetts, on October 13, 2005.
Francis A. Favara,
Acting Manager, Engine and Propeller Directorate, Aircraft Certification Service.

[FR Doc. 05-21174 Filed 10-21-05; 8:45 am]

BILLING CODE 4910-13-P